DEPARTMENT OF COMMERCE

International Trade Administration

[A-520-804]

Certain Steel Nails From the United Arab Emirates: Final Results of Antidumping Duty Administrative Review; 2014-2015

AGENCY: Enforcement and Compliance, International Trade Administration, Department of Commerce.

SUMMARY: On June 10, 2016, the Department of Commerce (the Department) published the preliminary results of the administrative review of the antidumping duty order on certain steel nails (nails) from the United Arab Emirates (UAE). The period of review (POR) is May 1, 2014, through April 30, 2015. The review covers five producers/exporters of the subject merchandise, Dubai Wire FZE (Dubai Wire), Oman Fasteners LLC (Oman Fasteners), Overseas Distribution Services Inc. (ODS), Overseas International Steel Industry LLC (OISI), and Precision Fasteners LLC (Precision). For these final results, we continue to find that subject merchandise has been sold in the United States at less than normal value.

DATES: Effective October 17, 2016.

FOR FURTHER INFORMATION CONTACT: Bryan Hansen or Minoo Hatten, AD/CVD Operations, Office I, Enforcement and Compliance, International Trade Administration, U.S. Department of Commerce, 1401 Constitution Avenue NW., Washington, DC 20230; telephone: (202) 482-3683, and (202) 482-1690, respectively.

SUPPLEMENTARY INFORMATION:

Background

On June 10, 2016, the Department published the preliminary results of the administrative review of the antidumping duty order on certain steel nails from the UAE.¹ We invited interested parties to comment on the Preliminary Results. We received case and rebuttal briefs from Mid Continent Steel and Wire, Inc., a domestic interested party, and ODS, the only mandatory respondent selected for individual examination in this review. The Department conducted this administrative review in accordance with section 751 of the Tariff Act of 1930, as amended (the Act).

¹ See Certain Steel Nails From the United Arab Emirates: Preliminary Results of Antidumping Duty Administrative Review; 2014-2015, 81 FR 37571 (June 10, 2016), and accompanying Preliminary Decision Memorandum (collectively, Preliminary Results).

Scope of the Order

The merchandise subject to the Order ²is nails from the UAE. The products are currently classifiable under the Harmonized Tariff Schedule of the United States (HTSUS) subheadings 7317.00.55, 7317.00.65, 7317.00.75, 7806.00.80.00 and 7907.00.60.00.³ While the HTSUS numbers are provided for convenience and customs purposes, the written description of the scope of the order is dispositive. A full description of the scope of the order is contained in the Issues and Decision Memorandum.⁴

² See Certain Steel Nails from the United Arab Emirates: Amended Final Determination of Sales at Less Than Fair Value and Antidumping Duty Order, 77 FR 27421 (May 10, 2012) (Order).

³ On April 16, 2012, the Department added classification numbers 7806.00.80.00 and 7907.00.60.00 to the customs case reference file pursuant to a request by U.S. Customs and Border Protection (CBP).

⁴ For a full description of the scope of the order, see the memorandum from Deputy Assistant Secretary Christian Marsh to Assistant Secretary Paul Piquado entitled, “Certain Steel Nails from the United Arab Emirates: Issues and Decision Memorandum for Final Results of Antidumping Duty Administrative Review; 2014-2015,” dated concurrently with and hereby adopted by this notice (Issues and Decision Memorandum).

Analysis of the Comments Received

All issues raised in the case and rebuttal briefs by parties to this administrative review are addressed in the Issues and Decision Memorandum. A list of the issues is attached to this notice as an appendix. The Issues and Decision Memorandum is a public document and is on file electronically via Enforcement and Compliance's Antidumping and Countervailing Duty Centralized Electronic Service System (ACCESS) and is available to registered users at https://access.trade.gov. The Issues and Decision Memorandum is also available to all parties in the Central Records Unit, Room B8024 of the main Department of Commerce building. In addition, a complete version of the Issues and Decision Memorandum can be accessed directly on the Enforcement and Compliance Web site at http://enforcement.trade.gov/frn/index.html.

Final Determination of No Shipments

The Department preliminarily found that Oman Fasteners LLC, Overseas International Steel Industry LLC, and Precision Fasteners LLC, did not have any reviewable entries of subject merchandise during the POR.⁵ After the Preliminary Results, we received no comments or additional information with respect to these three companies. Therefore, for these final results, we continue to find that these three companies did not have any reviewable entries of subject merchandise during the POR. Consistent with our practice, we will issue appropriate instructions to CBP based on our final results.

⁵ See Preliminary Results, and accompanying Preliminary Decision Memorandum at 4.

Rate for Respondent Not Selected for Individual Examination

In these final results we calculated a weighted-average dumping margin above zero or de minimis for ODS, the sole respondent selected for individual examination.⁶ Accordingly, for these final results, we will assign to Dubai Wire FZE (Dubai Wire), a company not selected for individual examination in this review, the weighted-average dumping margin calculated for ODS, consistent with section 735(c)(5)(A) of the Act.

⁶ Id.

Changes Since the Preliminary Results

Based on the Department's analysis of comments received and further examination of the record, we made revisions to our margin calculations for ODS. As a result, the margins for ODS and Dubai Wire have changed.

Final Results of the Review

As a result of this administrative review, we determine that the following estimated weighted-average dumping margins exist for the period May 1, 2014, through April 30, 2015:

⁷ Dubai Wire was not selected for individual examination in this review. Generally, we look to section 735(c)(5) of the Act, which provides instructions for calculating the all-others rate in an investigation, for guidance when calculating the rate for respondents not selected for individual review. Section 735(c)(5)(A) of the Act instructs that we are not to calculate an all-others rate using any zero or de minimis margins or any margins based on total facts available. Accordingly, our usual practice has been to average the rates for the selected companies excluding zero, de minimis, and rates based entirely on facts available. In this review, we calculated a weighted-average dumping margin above zero or de minimis for the sole respondent selected for individual examination, ODS. Based on this, and analogous to the statutory provision concerning investigations, we assigned the rate calculated for ODS to Dubai Wire.

Company | Margin (percent)
Overseas Distribution Services Inc | 0.87
Dubai Wire FZE ⁷ | 0.87

Disclosure

We intend to disclose the calculations performed to parties in this proceeding within five days after public announcement of the final results, in accordance with 19 CFR 351.224(b).

Assessment Rates

Pursuant to section 751(a)(2)(A) of the Act and 19 CFR 351.212(b), the Department shall determine, and CBP shall assess, antidumping duties on all appropriate entries covered by this review.⁸ Therefore, we will instruct CBP to apply ad valorem assessment rate of 0.87 percent, to all entries of subject merchandise during the POR which were produced and/or exported by ODS.

⁸ See 19 CFR 351.212(b)(1).

Consistent with our practice, because we continue to find that Oman Fasteners, OISI, and Precision had no shipments of subject merchandise to the United States in the final results of this review, we will instruct CBP to liquidate any existing entries of merchandise produced by Oman Fasteners, OISI, and Precision and exported by other parties at the all-others rate.⁹

⁹ See, e.g., Magnesium Metal From the Russian Federation: Preliminary Results of Antidumping Duty Administrative Review, 75 FR 26922, 26923 (May 13, 2010), unchanged in Magnesium Metal From the Russian Federation: Final Results of Antidumping Duty Administrative Review, 75 FR 56989 (September 17, 2010).

For Dubai Wire, the respondent not selected for individual examination, we will instruct CBP to apply the rate assigned to ODS, to all entries of subject merchandise produced and/or exported by Dubai Wire.

We intend to issue instructions to CBP 15 days after publication of the final results of this review.

Cash Deposit Requirements

The following deposit requirements will be effective upon publication of the notice of final results of administrative review for all shipments of nails from the UAE entered, or withdrawn from warehouse, for consumption on or after the date of publication as provided by section 751(a)(2) of the Act: (1) The cash deposit rate for ODS and Dubai Wire will be the rates established in the final results of this administrative review; (2) for merchandise exported by manufacturers or exporters not covered in this review but covered in a prior segment of the proceeding, the cash deposit rate will continue to be the company-specific rate published for the most recent period; (3) if the exporter is not a firm covered in this review, a prior review, or the original investigation but the manufacturer is, the cash deposit rate will be the rate established for the most recent period for the manufacturer of the merchandise; (4) the cash deposit rate for all other manufacturers or exporters will continue to be 4.30 percent, the all-others rate established in the Order.¹⁰ These cash deposit requirements, when imposed, shall remain in effect until further notice.

¹⁰ See Order, 77 FR 27421, 27422.

Notification to Importers

This notice serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Administrative Protective Orders

This notice also serves as the only reminder to parties subject to administrative protective order (APO) of their responsibility concerning the return or destruction of proprietary information disclosed under APO in accordance with 19 CFR 351.305(a)(3). Timely written notification of the return or destruction of APO materials or conversion to judicial protective order is hereby requested. Failure to comply with the regulations and terms of an APO is a sanctionable violation.

These final results of review are issued and published in accordance with sections 751(a)(1) and 777(i) of the Act.

Dated: October 11, 2016.
Paul Piquado,
Assistant Secretary for Enforcement and Compliance.

Appendix—List of Topics Discussed in the Preliminary Decision Memorandum

Summary

Background

Scope of the Order

Discussion of the Issues

Comment 1: Selection of Financial Statements to Calculate Constructed Value Selling Expenses and Profit

Comment 2: Errors in Calculation of Constructed Value Selling Expense and Profit Ratios

Comment 3: Appropriate Universe of Sales

Comment 4: Consideration of an Alternative Comparison Method

Comment 5: Differential Pricing Analysis

Recommendation

[FR Doc. 2016-25057 Filed 10-14-16; 8:45 am]

BILLING CODE 3510-DS-P